DEPARTMENT OF THE TREASURY

Submission for OMB Review; Comment Request

July 6, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 13, 2004, to be assured of consideration.

Departmental Offices/Office of Economic Policy/Trip Program

OMB Number: 1505-0193.

Form Numbers: None.

Type of Review: Reinstatement.

Title: Terrorism Risk Insurance Survey.

Description: This information collection is required for a study mandated under the Terrorism Risk Insurance Act of 2002 (Pub. L. 107-297). Three survey waves will be collected over the period 2003-2005. Treasury will use the survey data to assess the effectiveness of the Terror Risk Insurance Program and unlikely industry capacity after the Program sunsets in 2005, and to measure annual terror risk insurance premiums. A report from the Secretary of the Treasury to Congress, is due no later than June 30, 2005.

Respondents: Business or other for-profit, not-for-profit institutions, farms, State, local or tribal government.

Estimated Number of Respondents: 5,350.

Estimated Burden Hours Per Respondent: 2 hours, 31 minutes.

Frequency of Response: Annually, other (ends after 2005).

Estimated Total Reporting/Recordkeeping Burden: 13,500 hours.

Clearance Officer: Lois K. Holland, Departmental Offices, Room 2110, 1425 New York Avenue, NW., Washington, DC 20220, (202) 622-1563.

OMB Reviewer: Joseph F. Lackey, Jr., Office of Management and Budget, Room 10235, New Executive Office Building, Washington, DC 20503, (202) 395-7316.

Lois K. Holland,
Treasury PRA Clearance Officer.

[FR Doc. 04-15929 Filed 7-13-04; 8:45 am]

BILLING CODE 4811-16-P